DEPARTMENT OF LABOR

Mine Safety and Health Administration

Petitions for Modification

The following parties have filed petitions to modify the application of existing safety standards under section 101(c) of the Federal Mine Safety and Health Act of 1977.

1. Wabash Mine Holding Company

[Docket No. M-2005-030-C]

Wabash Mine Holding Company, Three Gateway Center, Suite 1340, 401 Liberty Avenue, Pittsburgh, Pennsylvania 15222 has filed a petition to modify the application of 30 CFR 75.364(b)(1) and (b)(4) (Weekly examination) to its Wabash Mine (MSHA I.D. No. 11-00877) located in Wabash County, Illinois. The petitioner requests a modification of the existing standard to permit an alternative method of compliance for examination of certain sealed areas of the Wabash Mine. The petitioner states that certain portions of the mine has been sealed off in the Main South and East seals; air ventilating these seals does ventilate any working section but travels to a nearby return air shaft; roof falls have occurred in several of the airways formerly providing access to the seals; and the remaining entries providing access to the seals have deteriorated roof conditions and hinder safe access to the seals. The petitioner asserts that to examine these seals would result in a diminution of safety to the miners. The petitioner proposes to establish a permanent monitoring station to monitor the air for oxygen and methane after it passes through the affected area of the Main East and Main South seals; to have a certified person evaluate on a weekly basis the air that passes the seals before it reaches the seals in the affected area; and to submit proposed revisions to include initial and refresher training for its approved 30 CFR Part 48 training plan to the District Manager within 60 days after the Proposed Decision and Order becomes final. The petitioner asserts that the proposed alternative method would provide at least the same measure of protection as the existing standard.

2. Wabash Mine Holding Company

[Docket No. M-2005-031-C]

Wabash Mine Holding Company, Three Gateway Center, Suite 1340, 401 Liberty Avenue, Pittsburgh, Pennsylvania 15222 has filed a petition to modify the application of 30 CFR 75.364(b)(2) (Weekly examination) to its Wabash Mine (MSHA I.D. No. 11-00877) located in Wabash County, Illinois. The petitioner requests a modification of the existing standard to permit an alternative method of compliance for examination of certain sealed areas of the Wabash Mine. Due to deteriorating roof conditions and limited access in the 1N3W air course from the 1W#3b tail area to the west side of the existing 1N3W seals, traveling the air course in its entirety to conduct weekly examinations would be hazardous to the miners. The petitioner proposes to establish an inlet evaluation point, “Intake EP” and two (2) outlet evaluation points “Permanent Outby EP” to be evaluated by a certified person on a weekly basis; and to submit proposed revisions that will include initial and refresher training for its approved 30 CFR part 48 training plan to the District Manager within 60 days after the Proposed Decision and Order becomes final. The petitioner asserts that application of the existing standard would result in a diminution of safety to the miners and that the proposed alternative method would provide at least the same measure of protection as the existing standard.

3. Eighty Four Mining Company

[Docket No. M-2005-032-C]

Eighty Four Mining Company, 1800 Washington Road, Pittsburgh, Pennsylvania 15241-1421 has filed a petition to modify the application of 30 CFR 75.364(a) (Weekly examination) to its Mine 84 (MSHA I.D. No. 36-00958) located in Washington County, Pennsylvania. The petitioner requests a modification of the existing standard to permit an alternative method of compliance for examination of the worked out area behind the No. 18 belt air dump (sump area) of Mine 84. Due to deteriorating roof conditions, traveling the affected area of the mine would expose workers to hazardous conditions. The petitioner proposes to establish check points G and H to monitor the quantity and quality of air at these check points, and have a certified person to measure the air quality and quantity and record their initials, the date and time in a record book to certify that the examination was conducted. The record book will be kept on the surface for a period of six months and made available for inspection by interested persons. The petitioner asserts that the proposed alternative method would provide at least the same measure of protection as the existing standard.

4. Coulterville Coal Company, LLC

[Docket No. M-2005-033-C)

Coulterville Coal Company, LLC, 13101 Zeigler 11 Road, P.O. Box 397, Coulterville, Illinois 62237 has filed a petition to modify the application of 30 CFR 75.1909(b)(6) (Nonpermissible diesel-powered equipment; design and performance requirements) to its Gateway Mine (MSHA I.D. No. 11-02408) located in Randolph County, Illinois. The petitioner proposes to operate a six-wheel Getman Road Builder, model RDG-1504S, serial number 6739, as it was originally designed without front brakes. The petitioner states that the Getman Road Builder has dual brake systems on the four (4) rear wheels and is designed to prevent loss of braking due to a single component failure. The petitioner will train the grader operators to limit the maximum speed of the Road Builder to 10 miles per hour (MPH) by permanently blocking out any gear that would provide higher speed, or use transmission and differential ratios that would limit the maximum speed to 10 MPH; to recognize the appropriate speeds to use on different roadway conditions and slopes; and to lower the grader blade for additional stopping capability in emergency situations. The petitioner asserts that the proposed alternative method would provide at least the same measure of protection as the existing standard.

Request for Comments

Persons interested in these petitions are encouraged to submit comments via Federal eRulemaking Portal: http://www.regulations.gov; e-mail: zzMSHA-Comments@dol.gov; fax: (202) 693-9441; or Regular Mail/Hand Delivery/Courier: Mine Safety and Health Administration, Office of Standards, Regulations, and Variances, 1100 Wilson Boulevard, Room 2350, Arlington, Virginia 22209. All comments must be postmarked or received in that office on or before June 16, 2005. Copies of these petitions are available for inspection at that address.

Dated at Arlington, Virginia, this 11th day of May 2005.
Rebecca J. Smith,
Acting Director, Office of Standards, Regulations, and Variances.

[FR Doc. 05-9798 Filed 5-16-05; 8:45 am]

BILLING CODE 4510-43-P